DEPARTMENT OF JUSTICE

[OMB Number 1105-NEW]

Agency Information Collection Activities; Proposed eCollection eComments Requested; New Collection; SSO-012, Request To Reevaluate Special Security Officer's Medical Qualification

AGENCY: U.S. Marshals Service, Department of Justice.

ACTION: 60-Day notice.

SUMMARY: The U.S. Marshals Service, Department of Justice (DOJ), will be submitting the following information collection request to the Office of Management and Budget (OMB) for review and approval in accordance with the Paperwork Reduction Act of 1995.

DATES: Comments are encouraged and will be accepted for 60 days until August 12, 2024.

FOR FURTHER INFORMATION CONTACT: If you have additional comments especially on the estimated public burden or associated response time, suggestions, or need a copy of the proposed information collection instrument with instructions or additional information, please contact [Benjamin Cho/Business ComponentManagement Support Division, Address U.S. Marshals Service Headquarters, 1215 S Clark. St., Ste. 10022B, Arlington, VA 22202-4837, Phone 240-401-0008 AND benjamin.cho@usdoj.gov].

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Form SSO-012 must be completed by a Special Security Officer (SSO)'s attending physician when an SSO is returning to perform security services for the U.S. Marshals Service after recovering from an injury, extended illness, and/or outpatient or inpatient surgery to ensure the SSO is medically qualified to return to duty.

Overview of This Information Collection

1. Type of Information Collection: New collection

2. The Title of the Form/Collection: SSO-012, Request to Reevaluate Special Security Officer's Medical Qualification

3. The agency form number, if any, and the applicable component of the Department sponsoring the collection: SSO-012

4. Affected public who will be asked or required to respond, as well as the obligation to respond: Individuals or households. The obligation to respond is voluntary.

5. An estimate of the total number of respondents and the amount of time estimated for an average respondent to respond: The total or estimated number of respondents for SSO-012, Request to Reevaluate Special Security Officer's Medical Qualification is 27. The time per response is 30 minutes to complete SSO-012, Request to Reevaluate Special Security Officer's Medical Qualification.

6. An estimate of the total annual burden (in hours) associated with the collection: Ex: The total annual burden hours for this collection is 13.5 hours (27 respondents * 0.5 hours per response).

7. An estimate of the total annual cost burden associated with the collection, if applicable:

Total Burden Hours
Activity | Number of respondents | Frequency | Total annual responses | Time per response | Total annual burden (hours)
Survey (individuals or households) | 27 | 1/annually | 27 | 30 min | 13.5 hrs.

If additional information is required contact: Darwin Arceo, Department Clearance Officer, United States Department of Justice, Justice Management Division, Policy and Planning Staff, Two Constitution Square, 145 N Street NE, 4W-218, Washington, DC.

Dated: June 7, 2024.
Darwin Arceo,
Department Clearance Officer for PRA, U.S. Department of Justice.

[FR Doc. 2024-12828 Filed 6-11-24; 8:45 am]

BILLING CODE 4410-04-P